DEPARTMENT OF AGRICULTURE

Announcement of Competition Under the America COMPETES Reauthorization Act of 2011

AGENCY: Center for Nutrition Policy and Promotion, USDA.

ACTION: Notice.

SUMMARY: To encourage faith-based, community, and other organizations to create inspiring videos about their work to reverse the trend of childhood obesity, this notice announces the Let's Move Faith and Communities prize competition under section 105 of the America COMPETES Reauthorization Act of 2011, Public Law 11-358 (2011).

DATES: Competition begins on or after February 11, 2012, and ends when a winner is announced on or about June 1, 2012, whichever occurs first, unless the term of the contest is extended as provided in this Notice.

FOR FURTHER INFORMATION CONTACT: Robert Post, Deputy Director, Center for Nutrition Policy and Promotion, USDA, (703) 305-7600.

SUPPLEMENTARY INFORMATION: The Let's Move Faith and Communities (“LMFC”) presents: Communities on the Move Video Challenge (the “Challenge”) is an initiative of Let's Move and the U.S. Department of Agriculture (“USDA”). The Challenge is intended to provide recognition to faith-based institutions, community-based institutions and other non-profit organizations (collectively, “Contestants”) for creating inspiring videos that showcase activity related to LMFC's mission to reverse the trend of childhood obesity. The goals of the Challenge are to:

(1) Recognize community efforts to help reduce the trend of childhood obesity;

(2) Encourage healthy eating through USDA's MyPlate icon and nutrition information found on www.ChooseMyPlate.gov;

(3) Highlight the work of Let's Move Faith and Communities and other organizations engaged in promoting the Let's Move message of healthy lifestyles for kids; and

(4) Increase participation in faith and community based efforts to prevent childhood obesity.

Summary of How To Enter and Judging Criteria

Review the sections below for a more detailed description and important requirements and restrictions.

1. Create an account on Communities.Challenge.gov or log in with an existing ChallengePost account.

2. On Communities.Challenge.gov, click “Accept this challenge” to register your interest in participating. This step ensures that you will receive important challenge updates.

3. After you sign up on Communities.Challenge.gov a confirmation email will be sent to the email address you provided. Use the confirmation email to verify your email address. As a registered Contestant, you will then be able to enter the Challenge by submitting an application that conforms to the requirements set forth herein (a “Submission”).

4. Create a Video that is between one and three minutes long, has a clear connection to Let's Move, and describes how the organization entering has worked to improve the wellness of children in congregation(s) or community(ies). The organization may operate at the national or local level. Videos must focus on topics in one or more of three areas of interest: healthy eating, physical activity, and/or access to healthy, affordable food. At some point in the video, the video must direct viewers to www.letsmove.gov for more information.

5. Confirm that you have read and agreed to these Official Rules. Submit your video on Communities.Challenge.gov between February 11, 2012 at 10 a.m. EST and April 6, 2012 at 5 p.m. EDT by including a link to the video on YouTube.com or Vimeo.com, a text description of the activities showcased in the video (300 words or less) and a transcript of the video dialogue. Upload consent forms for everyone who appears in your video, regardless of age. Upload a copyright release from the creator of the video.

Nine (9) winners will be chosen. The First Prize winner and seven (7) Honorable Mention winners will be selected by a panel of judges. One (1) Popular Choice winner will be selected through public voting.

For selection of the First Prize and Honorable Mention winners, the internal panel of judges will judge each eligible Submission based on the following three criteria:

Quality of the Idea: Video must convey at least one of the three Let's Move areas of interest: healthy eating, physical activity, and/or access to healthy affordable food. Submissions that connect to multiple areas of interest are especially encouraged. The video should also have a clear connection to the mission of Let's Move. The idea or program highlighted in the video should be creative, and should involve a collective group effort focused on the wellness of children. At some point in the video, Contestants must direct viewers to www.letsmove.gov for more information.

Communication of the Idea: Video should include content that is compelling and instructive. The video should also (a) offer clear visual and audio quality, (b) encourage team-building and collaboration, and (c) not compromise the health or safety of the video participants.

Potential Impact of the Idea: The idea or program represented in the video should be replicable by other entities, and adaptable to a variety of settings and resource levels. The idea or program represented in the video should be sustainable, and support positive behaviors to reduce childhood obesity. The video should include personal accounts (for example, testimonials, success stories, or individual reports) conveying how the idea or program highlighted has impacted health and wellness.

The public will vote on the Submissions on Communities.Challenge.gov between February 11, 2012 at 10 a.m. EST and May 11, 2012 at 5 p.m. EDT to determine the Popular Choice winner. Public voting will occur daily throughout the Challenge Submission Period. While Submissions will be accepted at any time during the Challenge Submission Period, Contestants should be aware that as a result of daily voting, earlier entered Submissions may have a higher chance of winning the Popular Choice award.

1. Eligibility

To be eligible to win a prize under this Challenge, an organization—

a. Shall have registered to participate in the Challenge under these Official Rules;

b. Shall have complied with all the requirements set forth herein;

c. Shall be a faith-based institution, community-based institution, or other non-profit organization that, at the time of entry, is domiciled in the United States of America, has been duly organized and validly exists;

d. May not be a government or for-profit entity.

Individuals are not eligible to enter Submissions for this Challenge.

A Contestant shall not be deemed ineligible because the Contestant used Federal facilities or consulted with Federal employees during the Challenge if the facilities and employees are made available to all Contestants participating in the Challenge on an equitable basis.

Let's Move, the USDA, ChallengePost, Inc. (collectively the “Promotion Entities”) or any of the Promotion Entities' respective affiliates, subsidiaries, advertising agencies, or any other company or entity involved with the design, production, execution, or distribution of the Challenge are not eligible.

The program highlighted in the Video may be a program that is in whole or in part Federally funded provided both of the following two conditions are met:

• An eligible entity, as described above, must have full responsibility for expending the Federal funds to implement the highlighted program; and

• No Federal funds can be used to develop a Contestant's Submission unless such use is consistent with the grant award, or other applicable Federal funds awarding document. If a grantee using Federal funds enters and wins this Challenge, the prize monies will need to be treated as program income for purposes of the original grant in accordance with applicable Office of Management and Budget Circulars.

Federal contractors may not use Federal funds from a contract to develop a Submission for this Challenge.

Contestants led by or whose highlighted program is led by a Federal employee are eligible provided all of the following criteria are met:

• The Federal employee cannot be an employee of the USDA Center for Nutrition Policy and Promotion (USDA-CNPP) or the USDA Center for Faith-Based and Neighborhood Partnerships (USDA-CFBNP). Nor may the Federal employee be an immediate family member of any employee of USDA-CNPP or USDA-CFBNP;

• The Federal employee's involvement cannot be within the scope of his/her Federal employment;

• The Federal employee may not work on Contestant's Submission during his/her Federal employment assigned duty hours, and may not use Federal facilities in the preparation of Contestant's Submission unless those facilities are made available to all Challenge Contestant's on an equitable basis; and

• The Federal employee has fully complied with all applicable government ethics requirements for Federal employees. If questions arise about the applicability of or compliance with ethics requirements, the Federal employee is encouraged to consult his/her designated agency ethics officer.

The Challenge is subject to all applicable Federal laws and regulations. Participation constitutes Contestant's full and unconditional agreement to these Official Rules and Sponsor's and Administrator's decisions, which are final and binding in all matters related to the Challenge.

2. Sponsor and Administrator

Sponsor: USDA Center for Nutrition Policy and Promotion, 3101 Park Center Drive, 10th Floor Alexandria, VA 22302-1594.

Administrator: ChallengePost, Inc., 425 W. 13th Street, Suite #504, New York, NY 10014.

The role of the Sponsor is to make all decisions related to the development, management, and implementation of the Challenge. The role of the Administrator is to carry out the Challenge per the direction of the Sponsor.

3. Challenge Submission Period

The Challenge Submission Period begins on February 11, 2012 at 10 a.m. EST and ends on April 6, 2012 at 5 p.m. EDT (the “Challenge Submission Period”). Administrator's computer is the official time-keeping device for this Challenge.

Public voting will occur daily throughout the Challenge Submission Period. While Submissions will be accepted at any time during the Challenge Submission Period, Contestants should be aware that as a result of daily voting, earlier entered Submissions may have a higher chance of winning the popular choice award.

4. How To Enter and Submission Requirements

a. Registration and Submission:

(1) Create an account on Communities.Challenge.gov or log in with an existing ChallengePost account. Creating an account is free.

(2) On Communities.Challenge.gov, click “Accept this challenge” to register your interest in participating. This step ensures that you will receive important challenge updates.

(3) After you sign up on Communities.Challenge.gov a confirmation email will be sent to the email address you provided. Use the confirmation email to verify your email address. As a registered Contestant, you will then be able to enter a Submission.

(4) Create a Video that is between one and three minutes long, has a clear connection to Let's Move, and describes how the organization entering has worked to improve the wellness of children in congregation(s) or community(ies). The organization may operate at the national or local level. Videos must focus on topics in one or more of three areas of interest: (a) healthy eating, (b) physical activity, and/or (c) access to healthy affordable food. At some point in the video, the video must direct viewers to www.letsmove.gov for more information.

(5) Enter a Submission by filling out the submission form on Communities.Challenge.gov. As part of a complete Submission each contestant must provide:

• The title of the Video,

• A link to the Video on YouTube.com or Vimeo.com,

• A text description of the organization's idea or program featured in the Video (300 words or less),

• A transcript of the dialogue in the Video,

• Confirmation that Contestant has read and agrees to these Official Rules,

• Image Release forms from all individuals that appear in the Video, and

• Copyright Release from the creator of the Video.

A Submission will not be considered complete and eligible to win prizes if it does not include all of the required items. All completed Video Consent Forms and Copyright Release Forms must be uploaded as part of the submission form on Communities.Challenge.gov.

b. Submission Requirements:

(1) The video must be no shorter than one minute and no longer than three minutes. Videos that do not meet these time requirements may be disqualified.

(2) Submissions must include a text description, no more than 300 words in length, of the program highlighted in the video. A Submission may be disqualified if the activities presented in the Video are not the same or closely related to those described in the text description.

(3) Submissions must also include a transcript of the video's dialogue. A Submission may be disqualified if the Video's dialogue is not the same or closely related to the dialogue in the transcript.

(4) The Video must describe how the activities in the video connect to Let's Move and describe how the Contestant has worked to improve the wellness of children in congregation(s) or community(ies) in the United States. Contestant organization may operate at the national or local level.

(5) The Video must focus on topics in one or more of the three areas of interest: healthy eating, physical activity, and/or access to healthy, affordable food. Videos that address multiple areas are especially encouraged.

(6) At some point in the video, the video must direct viewers to www.letsmove.gov for more information.

(7) Submissions must include one uploaded file combining hand-signed Image Release for each individual appearing in the Video and the Copyright Release Form from the Video's creator.

• Any individuals appearing in a Video submitted by a Contestant must sign an Image Release form indicating their consent to appear. Minors may appear in a Video if their parent or legal guardian also signs their Image Release form.

• The person who creates the Video must sign a Copyright Release form authorizing Contestant to use the Video in entering the Challenge and authorizing USDA and Let's Move to use the Video in promoting the mission of Let's Move and working to reduce childhood obesity.

• Failure to include any of the required Image Release or Copyright Release forms will result in Contestant's Submission being deemed ineligible.

(8) The Contestant cannot make any changes or alterations to the Submission once the Challenge Submission Period has ended.

(9) A Contestant may not submit more than one Submission describing the same program or activities.

(10) Submissions in which Sponsor and/or Administrator's sole discretion are determined to be substantially similar to a prior submitted entry in the Challenge will be disqualified, or if entered by the same Contestant, the Contestant may be required to choose one Submission to enter.

(11) The video cannot contain brand names or trademarks unless these entities are official partners in the program activities described. If a video uses the Let's Move logo, the use should be consistent with the guidance found at http://www.letsmove.gov/logo-and-usage.

(12) Submissions must be original, be the work of the Contestant, and must not violate the rights of other parties. Each Contestant represents and warrants that Contestant is the sole author and owner of the Submission, or if not the sole owner has received a Copyright Release from the author of the Submission, that the Submission is wholly original with the Contestant or individual who has signed the Copyright Release, that it does not infringe any copyright or any other rights of any third party of which the Contestant is aware, and is free of malware.

(13) The Administrator has the right to request access to the Video file to verify any criteria about the Submission.

(14) The Video must not contain any material that is inappropriate, indecent, obscene, hateful, defamatory, slanderous, libelous, or in any way disparaging. The Video must not contain any material that promotes bigotry, racism, hatred, or harm against any group or individual, or that promotes discrimination based on race, sex, religion, nationality, disability, sexual orientation, or age. Submissions containing any of the listed prohibited material or any matter which in the sole discretion of the Sponsor, Administrator and Judges is in obvious bad taste, which demonstrates a lack of respect for public morals or conduct, which disparages any individual or group of individuals, which contains messaging that is inconsistent with the Let's Move goal to reverse the trend of childhood obesity or with the 2010 Dietary Guidelines for Americans and MyPlate, or which adversely affects the reputation of the Sponsor will not be accepted. If the Sponsor, Administrator, or Judges, in their discretion, find any Submission to be unacceptable, then such Submission shall be deemed disqualified.

(15) All Submissions must be in English.

(16) The Video cannot have been submitted previously in a promotion or contest of any kind.

(17) The Video should not include any personal identification information about those in the Video (e.g., full name, address, social security number, birth date, etc.).

(18) The Video must not contain material that violates or infringes another's rights, including but not limited to privacy, publicity, or intellectual property rights, or material that constitutes copyright or license infringement.

(19) The Video must not contain material that violates any applicable law.

c. Rights To Use Submissions:

Each Contestant grants to Let's Move, USDA, and others acting on behalf of Let's Move and USDA, an irrevocable, royalty-free, non-exclusive worldwide license to use, copy for use, distribute, display publicly, perform publicly, create derivative works, and license others to do so for the purpose of the Challenge and/or for the purpose of educating the public about reversing childhood obesity and/or the three areas of interest, healthy eating, physical activity, and/or access to healthy affordable food, until five years after the announcement of winners. This license includes posting or linking to the Submission on the official Let's Move, USDA, and Administrator Web sites and making it available for use by the public.

5. Display of Submissions and Public Voting To Determine the Popular Choice Winner in Each Category

Submissions will be posted on Communities.Challenge.gov on a rolling basis after being screened by the Sponsor and Administrator for eligibility, accuracy of messaging, and compliance with all Submission requirements described in Section 4. Submissions will not be posted until the completed Image Release Forms and Copyright Release Form are received, as described in Section 4b. All Contestants will have equal access to Submissions posted on the Web site. Non-Contestants interested in the Challenge are also encouraged to register on Communities.Challenge.gov. Registration will be required in order to receive updates on the Challenge and to vote on your favorite Submissions to determine the Popular Choice winner. The public voting will take place between on or about February 11, 2012 at 10 a.m. EST and May 11, 2012 at 5 p.m. EDT.

Public voting will occur daily throughout the Challenge Submission Period. While Submissions will be accepted at any time during the Challenge Submission Period, Contestants should be aware that as a result of daily voting, earlier entered Submissions may have a higher chance of winning the popular choice award.

Each registered visitor is able to place one vote per day. There will be one Popular Choice award. In the event of a tie, an internal panel will choose the winner. Use of an automated process or similar device to submit an electronic vote is strictly prohibited. Any attempt to circumvent the one vote limit per Submission per day or to use an automated vote process will subject all votes from the person to disqualification. If a Contestant receives multiple and/or irregular votes from the same user or users, including but not limited to votes generated by a robotic, programmed, script, macro, other automated means or other source, the Sponsor and/or Administrator reserves the right to disqualify the Contestant in their sole discretion. If the voting process fails to operate properly or appears to be tampered with or tainted with errors, fraud, or unfair practices, the Sponsor and Administrator in their sole discretion reserve the right to use another means to determine the Popular Choice winner (e.g., appointing a panel of judges).

Contestants may not pay people or provide any other type of consideration in exchange for votes, and any Contestant who violates this rule will be disqualified. Public votes may be displayed on the Challenge Web site, on a real-time basis, before being verified for integrity. These unverified votes do not necessarily reflect accurately the Popular Choice winner. The Popular Choice winner will be the Contestant who is contacted directly by the Administrator or Sponsor after votes have been verified. Sponsor reserves the right to modify the voting period at any time for any reason.

6. Judges and Winner Selection

A judging panel will be selected by the Sponsor and consist of 5-9 experts, all of whom will be Federal employees. Judges will be from Let's Move, USDA-CNPP, USDA-CFBNP, and the U.S. Department of Health and Human Services Center for Faith-Based and Neighborhood Partnerships. The judging panel will judge the Submissions on the criteria identified below to select the First prize and Honorable Mention winners. All judging will take place between on or about April 16, 2012 at 10 a.m. EDT and on or about May 11, 2012 at 5 p.m. EST.

The following information details the commitment of judges:

• Judges will be fair and impartial.

• A judge may not have a personal or financial interest in, or be an employee, officer, director, or agent of any entity that is a Contestant in the Challenge. Nor may a judge be an immediate family member of an officer, director, or agency of any entity that is a Contestant in the Challenge.

• Judges will fully comply with all applicable government ethics requirements for Federal employees. If questions arise about the applicability of or compliance with ethics requirements, judges are encouraged to consult with their designated agency ethics officer.

Odds of winning depend on the number of eligible Submissions received and the quality of Submissions. Odds of winning the popular choice award may also be affected by the timing of entry.

First Prize and Honorable Mention Awards

The judging panel will evaluate each Submission on the following three criteria:

Quality of the Idea: Video must convey at least one of the three Let's Move areas of interest: Healthy eating, physical activity, and/or access to healthy affordable food. Submissions that connect to multiple areas of interest are especially encouraged. The video should also have a clear connection to the mission of Let's Move. The idea or program highlighted in the video should be creative, and should involve a collective group effort focused on the wellness of children. At some point in the video Contestant's must direct viewers to www.letsmove.gov for more information.

Communication of the Idea: Video should include content that is compelling and instructive. The video should also offer clear visual and audio quality, encourage team-building and collaboration, and not compromise the health or safety of the video participants.

Potential Impact of the Idea: The idea or program represented in the video should be replicable by other entities, and adaptable to a variety of settings and resource levels. The idea or program represented in the video should be sustainable, and support positive behaviors to reduce childhood obesity. The video should include personal accounts (for example, testimonials, success stories, or individual reports) conveying how the idea or program highlighted has impacted health and wellness.

The eight (8) Contestants whose Submissions earn the highest and second, third, fourth, fifth, sixth, seventh, and eighth-highest overall scores will win, respectively, First Prize and Honorable Mention prizes identified below in Section 8. In the event of a tie, winners will be selected based on the criteria described in (1), then (2), and finally (3). If there is still a tie then the winner will be selected based on a vote by the judging panel.

7. Verification of Potential Winners

All potential challenge winners are subject to verification by sponsor and/or administrator whose decisions are final and binding in all matters related to the challenge. Potential winners must continue to comply with all terms and conditions of these Official Rules, and winning is contingent upon fulfilling all requirements. The potential winners will be notified by email, telephone, or mail after the date of the judging. The potential winners will be required to sign and return to Sponsor, within ten (10) days of the date notice is sent, an Affidavit of Eligibility and Liability/Publicity Release (except where prohibited) in order to claim a prize. If a potential winner of any prize cannot be contacted, fails to sign and return the Affidavit of Eligibility and Liability/Publicity Release within the required time period (if applicable), or if the prize or prize notification is returned as undeliverable, the potential winner forfeits prize. In the event that a potential winner of a Challenge prize is disqualified for any reason, Sponsor may award the applicable prize to the Contestant whose Submission earned the highest score of the remaining of the eligible entries.

8. Prizes

Winner | Prize | Quantity
First Prize | • An invitation for up to two representatives from the Contestant to attend a Let's Move related event in Washington, D.C • Contestant will be provided the opportunity to present its winning Video at the event. • A $1,000 travel stipend. • Contestant's winning Video will be featured on the Let's Move Web site. | 1
Popular Choice | • An invitation for up to two representatives from the Contestant to attend a Let's Move related event in Washington, DC • Contestant will be provided the opportunity to present its winning Video at the event. • A $1,000 travel stipend. • Contestant's winning Video will be featured on the Let's Move website. | 1
Honorable Mentions | • An invitation for up to two representatives from the Contestant to attend a Let's Move related event in Washington, DC • Videos will be featured on the Let's Move Web site. | 7

Prizes may be added or increased up until April 6, 2012. Sponsor may award less than the stated number of prizes if not enough eligible and verifiable Submissions are received. All Federal, state and local taxes are the sole responsibility of the winner.

After prizes are awarded and the Challenge is completed, Sponsor and judges may, with a Contestant's approval, independently consider further developing winning submissions for educational or other purposes.

Prizes will be awarded to organizations, and it will be up to the winning organizations and their representatives to allocate the prize appropriately.

9. Entry Conditions and Release

By entering, each Contestant agrees to:

(a) Comply with and be bound by these Official Rules and the decisions of the Sponsor, Administrator, and judges which are binding and final in all matters relating to this Challenge;

(b) Assume any and all risks and waive claims against the Federal Government and its related entities, except in the case of willful misconduct, for any injury, death, damage, or loss of property, revenue, or profits, whether direct, indirect, or consequential, arising from the Contestant's participation in the Challenge, whether the injury, death, damage, or loss arises through negligence or otherwise. In this paragraph, “related entity” means a contractor or subcontractor at any level, and a supplier, user, customer, cooperating party, grantee, investigator, or detailee. Provided, however, that Contestants are not required to waive claims arising out of the unauthorized use or disclosure by the Sponsor and/or Administrator of the intellectual property, trade secrets, or confidential business information of the Contestant;

(c) Be responsible for obtaining their own liability insurance to cover claims by any third party for death, bodily injury, or property damage, or loss resulting from an activity carried out in connection with participation in the Challenge, and claims by the Federal Government for damage or loss to Government property resulting from such an activity; and

(d) Indemnify the Federal Government against third party claims for damages arising from or related to Challenge activities.

10. Publicity

Except where prohibited, participation in the Challenge constitutes the winning Contestants' consent to the use of its name, description, key program details, opinions, and/or hometown and state by the Sponsor and its agents for promotional purposes in any media, worldwide, without further payment or consideration.

11. General Conditions

Sponsor and Administrator reserve the right to cancel, suspend and/or modify the Challenge, or any part of it, if any fraud, technical failures, or any other factor impairs the integrity or proper functioning of the Challenge.

Sponsor and/or Administrator reserve the right in their sole discretion to disqualify Contestant it finds to be tampering with the entry process or the operation of the Challenge or to be acting in violation of these Official Rules or any other promotion or in an unsportsmanlike or disruptive manner. Any attempt by any person to deliberately undermine the legitimate operation of the Challenge may be a violation of criminal and civil law, and, should such an attempt be made, Sponsor and/or Administrator reserves the right to seek damages from any such person to the fullest extent permitted by law. Sponsor and/or Administrator's failure to enforce any term of these Official Rules shall not constitute a waiver of that provision. Sponsor and Administrator are not responsible for, nor are they required to count, incomplete, late, misdirected, damaged, unlawful or illicit votes, including those secured through payment, votes achieved through automated means or by registering more than one email account and name, using another Contestant's email account and name, as well as those lost for technical reasons or otherwise.

12. Limitations of Liability

The Sponsor and Administrator are not responsible for:

a. Any incorrect or inaccurate information, whether caused by Contestants, printing errors or by any of the equipment or programming associated with or utilized in the Challenge;

b. Technical failures of any kind, including, but not limited to malfunctions, interruptions, or disconnections in phone lines or network hardware or software;

c. Unauthorized human intervention in any part of the entry process or the Challenge;

d. Technical or human error which may occur in the administration of the Challenge or the processing of entries; or

e. Any injury or damage to persons or property which may be caused, directly or indirectly, in whole or in part, from Contestant's participation in the Challenge or receipt or use or misuse of any prize.

If for any reason a Contestant's entry is confirmed to have been erroneously deleted, lost, or otherwise destroyed or corrupted, Contestant's sole remedy is another entry in the Challenge.

13. Disputes

Contestant agrees that:

a. Any and all disputes, claims and causes of action arising out of or connected with this Challenge, or any prizes awarded, other than those concerning the administration of the Challenge or the determination of winners, shall be resolved individually, without resort to any form of class action;

b. Any and all disputes, claims and causes of action arising out of or connected with this Challenge, or any prizes awarded, shall be resolved exclusively in an appropriate judicial or administrative forum of the United States; and

c. Any and all claims, judgments and awards shall be limited to actual out-of-pocket costs incurred, including costs associated with entering this Challenge, but in no event attorneys' fees. All issues and questions concerning the construction, validity, interpretation and enforceability of these Official Rules, or the rights and obligations of the Contestant and Sponsor in connection with the Challenge, shall be governed by, and construed in accordance with, the laws of the United States Federal Government, without giving effect to any choice of law or conflict of law rules that would cause the application of the laws of any jurisdiction other than the United States Federal Government.

14. Privacy

Sponsor collects personal information from you when you enter the Challenge. The information collected is subject to the ChallengePost privacy policy located at www.challengepost.com/privacy.

15. Challenge Results

For Challenge results, go to Communities.Challenge.gov on or about June 1, 2012.

16. Questions

For questions about these Official Rules contact USDA Center for Nutrition Policy and Promotion at (703) 305-7600 and include “Communities on the Move” in the subject line.

Dated: February 6, 2012.
Raj Anand,
Executive Director, Center for Nutrition Policy and Promotion.

[FR Doc. 2012-3079 Filed 2-9-12; 8:45 am]

BILLING CODE 3410-30-P